DEPARTMENT OF TRANSPORTATION

Office of the Secretary

Notice of Applications for Certificates of Public Convenience and Necessity and Foreign Air Carrier Permits Filed Under Subpart B (Formerly Subpart Q) During the Week Ending May 17, 2014

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0071

Date Filed: May 12, 2014

Due Date for Answers, Conforming Applications, or Motion to Modify Scope:June 2, 2014

Description:

Application of Dynamic Airways, LLC (“Dynamic”) requesting a certificates of public convenience and necessity authorizing Dynamic to engage in interstate scheduled air transportation of persons, property and mail.

Docket Number: DOT-OST-2014-0069

Date Filed: May 12, 2014

Due Date for Answers, Conforming Applications, or Motion to Modify Scope:June 2, 2014

Description:

Application of Dynamic Airways, LLC (“Dynamic”) requesting a certificates of public convenience and necessity authorizing Dynamic to engage in foreign scheduled air transportation of persons, property and mail.

Barbara J. Hairston,
Supervisory Dockets Officer, Docket Operations, Federal Register Liaison.

[FR Doc. 2014-12806 Filed 6-2-14; 8:45 am]

BILLING CODE 4910-9X-P